TENNESSEE VALLEY AUTHORITY

Sunshine Act Meetings

TIME AND DATE: 9:00 a.m. CT on May 9, 2024.

PLACE: Lipscomb University's George Shinn Event Center, Nashville, Tennessee.

STATUS: Open.

MATTERS TO BE CONSIDERED:

Meeting No. 24-02

The TVA Board of Directors will hold a public meeting on May 9, at the George Shinn Event Center, 3906 Belmont Boulevard, Nashville, Tennessee.

The meeting will be called to order at 9:00 a.m. CT to consider the agenda items listed below. TVA management will answer questions from the news media following the Board meeting.

On May 8, at the George Shinn Event Center, the public may comment on any agenda item or subject at a board-hosted public listening session which begins at 2:00 p.m. CT and will last until 4:00 p.m. Preregistration is required to address the Board.

Agenda

1. Approval of minutes of the February 14, 2024 Board Meeting

2. Governance Items

3. Report of the Operations and Nuclear Oversight Committee

4. Report of the Finance, Rates, and Portfolio Committee

A. FY24 Strategic Initiatives Funding

5. Report of the People and Governance Committee

A. Executive Compensation Review

6. Report of the External Stakeholders and Regulation Committee

7. Report of the Audit, Risk, and Cybersecurity Committee

8. Information Item

A. Committee Assignments

9. Report from President and CEO

CONTACT PERSON FOR MORE INFORMATION: For more information: Please call TVA Media Relations at (865) 632-6000, Knoxville, Tennessee. Anyone who wishes to comment on any of the agenda in writing may send their comments to: TVA Board of Directors, Board Agenda Comments, 400 West Summit Hill Drive, Knoxville, Tennessee 37902.

Dated: May 2, 2024.
Edward C. Meade,
Agency Liaison.

[FR Doc. 2024-10066 Filed 5-3-24; 4:15 pm]

BILLING CODE 8120-08-P